DEPARTMENT OF THE TREASURY

Internal Revenue Service

26 CFR Part 54

[REG-138647-04]

RIN 1545-BE30

Employer Comparable Contributions to Health Savings Accounts Under Section 4980G; Correction

AGENCY: Internal Revenue Service (IRS), Treasury.

ACTION: Correction to notice of proposed rulemaking.

SUMMARY: This document contains corrections to a notice of proposed rulemaking that was published in the Federal Register on Friday, August 26, 2005 (70 FR 50233) providing guidance on employer comparable contributions to Health Savings Accounts (HSAs) under section 4980G.

FOR FURTHER INFORMATION CONTACT: Barbara E. Pie at (202) 622-6080 (not a toll-free number).

SUPPLEMENTARY INFORMATION:

Background

The notice of proposed rulemaking (REG-138647-04) that is the subject of this correction is under section 4980 of the Internal Revenue Code.

Need for Correction

As published, REG-138647-04 contains errors that may prove to be misleading and are in need of clarification.

Correction of Publication

Accordingly, the publication of the notice of proposed rulemaking (REG-138647-04), which was the subject of FR Doc. 05-16941, is corrected as follows:

1. On page 50235, column 1, in the preamble under the paragraph heading “Calculating Comparable Contributions”, first paragraph, line 21, the language, “under employer's HDHP. The proposed” is corrected to read “under the employer's HDHP. The proposed”.

§ 54.4980G-4 [Corrected]

2. On page 50241, column 2, § 54.4980G-4, A-1(b), Example 8, line 9, the language “H contributes $500 to the HSA of each of” is corrected to read “H contributes $500 to the HSA of each”.

3. On page 50241, column 2, § 54.4980G-4, A-2, line 3 from the bottom of the paragraph, the language “back-basis as described in Q & A-3 in” is corrected to read “back basis as described in Q & A-3 in”.

4. On page 50242, column 1, § 54.4980G-4, A-3(c), Example 1, paragraph (i)(D), line 3, the language “individual and employed by Employer from” is corrected to read “individual and employed by Employer J from”.

5. On page 50242, column 1, § 54.4980G-4, A-3(c), Example 2, line 3, the language “contributes on a monthly pay-as-you-go-basis” is corrected to read “contributes on a monthly pay-as-you-go basis”.

6. On page 50242, column 1, § 54.4980G-4, A-3(e), the Example, line 3, the language “contributes on a look-back-basis to the HSAs” is corrected to read “contributes on a look-back basis to the HSAs”.

7. On page 50242, column 2, § 54.4980G-4, A-4(a), line 15 from the bottom of the paragraph, the language “also contribute on a pre-funded-basis to” is corrected to read “also contribute on a pre-funded basis”.

8. On page 50243, column 1, § 54.4980G-4, A-7(a), line 3, the language “determined by rounding to nearest” is corrected to read “determined by rounding to the nearest”.

Cynthia Grigsby,
Acting Chief, Publications and Regulations Branch, Legal Processing Division, Associate Chief Counsel (Procedure and Administration).

[FR Doc. E5-7013 Filed 12-7-05; 8:45 am]

BILLING CODE 4830-01-P